DEPARTMENT OF COMMERCE

National Oceanic and Atmospheric Administration

[RTID 0648-XB167]

Magnuson-Stevens Fishery Conservation and Management Act; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from Blue Planet Strategies contains all of the required information and warrants further consideration. Regulations under the Magnuson-Stevens Fishery Conservation and Management Act and the Atlantic Coastal Fisheries Cooperative Management Act require publication of this notice to provide interested parties the opportunity to comment on applications for proposed Exempted Fishing Permits.

DATES: Comments must be received on or before July 7, 2021.

ADDRESSES: You may submit written comments by the following method:

• Email: NMFS.GAR.EFP@noaa.gov. Include in the subject line “Comments on Blue Planet Strategies EFP.” If you cannot submit a comment through this method, please contact Allison Murphy at (978) 281-9122, or email at allison.murphy@noaa.gov.

FOR FURTHER INFORMATION CONTACT: Allison Murphy, Fishery Policy Analyst, 978-281-9122, allison.murphy@noaa.gov.

SUPPLEMENTARY INFORMATION: Blue Planet Strategies submitted a complete application for an EFP on May 15, 2021 for an Exempted Fishing Permit (EFP) to conduct fishing activities that Federal regulations would otherwise restrict. The purpose of this study is to test technologies for sub-surface gear marking and gear tracking technologies and prototypes for acoustic release of bottom stowed lift bags or vertical lines for retrieving fishing gear used in the New England groundfish, monkfish, and American lobster and Jonah crab fisheries for the purpose of reducing buoy line interactions with marine mammals. This EFP would authorize up to 9 participating vessels in 2021 and 12 participating vessels in 2022 to test ropeless systems in the Gulf of Maine Regulated Mesh Area (gillnet) and Lobster Management Areas 1 and 3 (lobster trap/pot). Blue Planet Strategies is requesting exemptions from the following requirements:

1. Gear marking requirements at 50 CFR 697.21(b)(2) to allow for the use of a single buoy marker on a trawl of more than three traps; and

2. Gear marking requirements at § 648.84(b) to allow for the use of a single buoy marker on a gillnet.

The participating gillnet fishermen typically fish 21 nets not longer than 300 ft (91.44 m). One end of the gillnet will be marked according to regulations, the other end will test a lift bag system. The participating lobster harvesters fish between 2 and 45 traps per trawl in depths ranging from 50 to 300 ft (15.24 to 91.44 m). One end of approximately 4 trawls per vessel will be marked according to regulations, the other end will use either a lift bag system, a buoy and stowed rope system, or a spooled rope system. Both gillnet and lobster gear will test either acoustic or modem gear marking technology. A maximum of 100 gillnet deployments are anticipated in 2021 and 140 deployments are expected in 2022, with a soak time of 96 hours. A maximum of 200 lobster trap trawl deployments are anticipated in 2021 and 800 are expected in 2022, with a maximum soak time of 4-8 days. Sampling would largely occur from June to October in both 2021 and 2022, though the permit has been requested through December 2022. Initial deployments would be overseen by an engineering team.

We published a proposed rule (85 FR 86878) on December 31, 2020 that would modify the Atlantic Large Whale Take Reduction Plan regulations at § 229. The proposed rule included a new seasonal restricted area that falls within Area 1 that would be closed to buoy lines from October through January but would allow ropeless fishing. A final rule is expected to be published later in 2021. Should the closure be implemented and should investigators wish to access this area, additional EFP terms and conditions may be required.

If approved, Blue Planet Strategies may request minor modifications and extensions to the EFP throughout the study. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 16, 2021.
Jennifer M. Wallace,
Acting Director, Office of Sustainable Fisheries, National Marine Fisheries Service.

[FR Doc. 2021-13079 Filed 6-21-21; 8:45 am]

BILLING CODE 3510-22-P